DEPARTMENT OF TRANSPORTATION

Federal Aviation Administration

14 CFR Part 73

[Docket No. FAA-2013-0729; Airspace Docket No. 13-AEA-14]

Proposed Modification and Establishment of Restricted Areas; Aberdeen Proving Ground, MD

AGENCY: Federal Aviation Administration (FAA), DOT.

ACTION: Notice of proposed rulemaking (NPRM).

SUMMARY: This action proposes to establish a new restricted area, designated R-4001C, within the existing restricted areas R-4001A and R-4001B, at the U.S. Army's Aberdeen Proving Ground in Maryland. The purpose of the proposed R-4001C is to contain two moored balloons, called Aerostats that would be airborne continuously at approximately 10,000 feet MSL. This action would segregate nonparticipating aircraft from a hazard to navigation in the Aberdeen Proving Ground airspace.

DATES: Comments must be received on or before November 15, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0729 and Airspace Docket No. 13-AEA-14, at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0729 and Airspace Docket No. 13-AEA-14) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2013-0729 and Airspace Docket No. 13-AEA-14.” The postcard will be date/time stamped and returned to the commenter.

Comments on environmental and land use aspects to should be directed to: U.S. Army Corps of Engineers, Baltimore District, 10 South Howard Street, Baltimore, MD 21201.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The U.S. Army requested that the FAA establish a new restricted area, designated R-4001C, within restricted areas R-4001A and R-4001B at Aberdeen Proving Ground, MD, to contain two moored balloons called Aerostats. The Aerostat is a 243-foot long balloon that resembles a blimp in appearance. The balloons would be moored to the ground by cables and would operate at 9,950 feet MSL. The Aerostats would be airborne 24 hours per day, seven days per week, except for periods when maintenance is required or the winds exceed 60 knots. Lighting of the mooring cables is not practical due to technical design issues; therefore, this activity is deemed to be a hazard to navigation and must be contained within restricted airspace.

Aberdeen Restricted Airspace Structure

Restricted airspace at Aberdeen Proving Ground consists of two areas: R-4001A and R-4001B. R-4001A, the larger of the two, has variable altitudes based on the time of day. R-4001A extends from the surface to unlimited altitude from 0700 to 2400 local time. It extends from the surface up to 10,000 feet MSL from 0000 to 0700 local time. However, higher altitudes may be used between 0000 and 0700 local time when a Notice to Airmen (NOTAM) is issued 24 hours in advance. R-4001B abuts the southwest end of R-4001A. R-4001B extends from the surface to 10,000 feet MSL. It also may be used to higher altitudes by NOTAM issued 24 hours in advance. The time of designation for R-4001B is “Intermittent as activated by NOTAM 24 hours in advance.” Both R-4001A and R-4001B are “joint-use” restricted areas. This means that the restricted areas may be released, in whole or in part, to the FAA controlling agency when the airspace is not needed by the using agency.

The Proposal

The FAA is proposing an amendment to 14 CFR part 73 to establish a new restricted area, designated R-4001C, within the confines of restricted areas R-4001A and R-4001B, Aberdeen Proving Ground, MD. R-4001C would consist of a rectangular area approximately 4.5 NM by 2 NM extending from the surface to 10,000 feet MSL. The time of designation for R-4001C would be “continuous.” Because the balloons would be airborne 24 hours per day (except for periods as noted above), R-4001C would not be a joint-use restricted area. R-4001A and R-4001B would continue to be joint-use areas as described above.

R-4001C would be established totally within existing restricted airspace. To accommodate this, the internal dividing line between R-4001A and R-4001B would be realigned to southwest by less than one nautical mile. This would expand R-4001A slightly into R-4001B so that the proposed R-4001C would be kept inside the modified R-4001A boundary. These changes would be fully contained within the present overall outer boundary and vertical limits of R-4001A and R-4001B. In addition, an editorial change would be made to the using agency name for R-4001A and R-4001B for standardization.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify restricted airspace to support Department of Defense requirements, at Aberdeen Proving Grounds, MD.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.40 [Amended]

2. § 73.40 is amended as follows:

* * * * *

1. R-4001A Aberdeen, MD [Amended]

By removing the current boundaries and using agency and inserting the following:

Boundaries. Beginning at lat. 39°30′30″ N., long. 076°09′59″ W.; to lat. 39°29′00″ N., long. 076°07′59″ W.; to lat. 39°29′30″ N., long. 076°04′59″ W.; to lat. 39°27′00″ N., long. 076°00′29″ W.; to lat. 39°19′47″ N., long. 076°11′33″ W.; to lat. 39°17′30″ N., long. 076°12′58″ W.; to lat. 39°16′24″ N., long. 076°16′17″ W.; to lat. 39°17′13″ N., long. 076°18′48″ W.; to lat. 39°18′42″ N., long. 076°18′48″ W.; to lat. 39°20′03″ N., long. 076°20′30″ W.; to lat. 39°19′56″ N., long. 076°21′02″ W.; to lat. 39°20′39″ N., long. 076°21′59″ W.; to lat. 39°22′00″ N., long. 076°21′59″ W.; to lat. 39°23′28″ N., long. 076°20′39″ W.; to lat. 39°26′10″ N., long. 076°14′49″ W.; to lat. 39°27′00″ N., long. 076°12′29″ W.; to the point of beginning, excluding R-4001C.

Using agency. U.S. Army, Commander, Aberdeen Proving Ground, MD.

2. R-4001B Aberdeen, MD [Amended]

By removing the current boundaries and using agency and inserting the following:

Boundaries. Beginning at lat. 39°17′30″ N., long. 076°12′58″ W.; to lat. 39°12′10″ N., long. 076°16′29″ W.; to lat. 39°12′45″ N., long. 076°22′29″ W.; to lat. 39°17′30″ N., long. 076°19′44″ W.; to lat. 39°18′30″ N., long. 076°21′59″ W.; to lat. 39°20′39″ N., long. 076°21′59″ W.; to lat. 39°19′56″ N., long. 076°21′02″ W.; to lat. 39°20′03″ N., long. 076°20′30″ W.; to lat. 39°18′42″ N., long. 076°18′48″ W.; to lat. 39°17′13″ N., long. 076°18′48″ W.; to lat. 39°16′24″ N., long. 076°16′17″ W.; to the point of beginning.

Using agency. U.S. Army, Commander, Aberdeen Proving Ground, MD.

3. R-4001C Aberdeen, MD [New]

Boundaries. Beginning at lat. 39°21′50″ N., long. 076°21′59″ W.; to lat. 39°23′01″ N., long. 076°16′35″ W.; to lat. 39°21′04″ N., long. 076°15′52″ W.; to lat. 39°19′56″ N., long. 076°21′02″ W.; to lat. 39°20′39″ N., long. 076°21′59″ W.; to the point of beginning.

Designated altitudes. Surface 10,000 feet MSL.

Time of designation. Continuous.

Controlling agency. FAA, Potomac TRACON.

Using agency. U.S. Army, Commander, Aberdeen Proving Ground, MD.

Issued in Washington, DC, on September 24, 2013.
Gary A. Norek,
Manager, Airspace Policy and ATC Procedures Group.

[FR Doc. 2013-23951 Filed 9-30-13; 8:45 am]

BILLING CODE 4910-13-P